COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete products previously furnished by such agencies

Comments Must Be Received on or Before: 2/15/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to the Procurement List for production by the nonprofit agencies listed:

Services

Service Type/Location:

Base Information Transfer Center, BITC, Multiple Locations, AF Air Combat Command

Contracting Activity: DEPT OF THE AIR FORCE, FA4890 ACC CONS LGC.

Prime NPA: The Arc of the Virginia Peninsula, Inc., Hampton, VA.

50 Vandenberg, Barksdale AFB, LA.

NPA: The Arc of Caddo-Bossier, Shreveport, LA.

5465 East Nuggat Street, Davis Monthan AFB, AZ.

NPA: Catholic Community Services of Southern Arizona, Tucson, AZ.

426 3rd Street, Dyess AFB, TX.

NPA: Training, Rehabilitation, & Development Institute, Inc., San Antonio, TX.

1234 Kenney Road, Ellsworth AFB, SD.

NPA: BH Services, Inc., Ellsworth AFB, SD.

330 Bomber Blvd., Minot AFB, ND.

NPA: MVW Services, Inc., Minot, ND.

390 Gunfighter Ave., Mountain Home AFB, ID.

NPA: Western Idaho Training Company, Inc., Caldwell, ID.

4250 Friffis Ave., Nellis AFB, NV.

NPA: Opportunity Village Association for Retarded Citizens, Las Vegas, NV.

1815 Wright Brothers Ave., Seymour Johnson AFB, NC.

NPA: The Arc of the Virginia Peninsula, Inc., Hampton, VA.

740 Arnold Ave, 1C, Whiteman AFB, NM.

NPA: The Arc of the Virginia Peninsula, Inc., Hampton, VA.

504 Shaw Drive, Shaw AFB, SC.

NPA: Genesis Development, Jefferson, IA.

Custodial Service

Southside Locust Pt, Baltimore, MD—CBP, 2001 East McComas St., Baltimore, MD.

NPA: The Arc of Baltimore, Inc., Baltimore, MD.

Contracting Activity: BUREAU OF CUSTOMS AND BORDER PROTECTION, OFFICE OF PROCUREMENT.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Surgical Pack, Disposable

NSN: 6515-00-103-6659—Surgical Pack, Disposable.

NPA: In-Sight, Warwick, RI.

Contracting Activity: Veterans Administration, NAC, HINES, IL.

Flashlight

NSN: 6230-01-513-3266—Flashlight, Aluminum, 2D, Silver.

NPA: Central Association for the Blind & Visually Impaired, Utica, NY.

Contracting Activity: GSA/FSS OFC SUP CTR—PAPER PRODUCTS, NEW YORK, NY.

Pad, Folio

NSN: 7510-01-484-4591—Pad, Folio.

NSN: 7510-01-484-4593—Pad, Folio.

NSN: 7510-01-484-4592—Pad, Folio.

NPA: Winston-Salem Industries for the Blind, Winston-Salem, NC.

Contracting Activity: GSA/FSS OFC SUP CTR—PAPER PRODUCTS, NEW YORK, NY.

Cleaner, Water Soluble

NSN: 7930-01-367-2966—Cleaner, Water Soluble.

NPA: Assoc f/t Blind &Visually Impaired & Goodwill Ind. of Greater Rochester, Rochester, NY.

Contracting Activity: GSA/FAS SOUTHWEST SUPPLY CENTER (QSDAC), FORT WORTH, TX.

Barry S. Lineback,
Acting Director, Program Operations.

[FR Doc. E9-898 Filed 1-15-09; 8:45 am]

BILLING CODE 6353-01-P